DEPARTMENT OF JUSTICE

Antitrust Division

Notice Pursuant to the National Cooperative Research and Production Act of 1993; United Defense, L.P. (“UDLP”): Crusader Advanced Field Artillery System Program

Notice is hereby given that, on October 15, 1998, pursuant to section 6(a) of the National Cooperative Research and Production Act of 1993, 15 U.S.C. 4301 et seq. (“the Act”), United Defense, L.P. (“UDLP”): Crusader Advanced Field Artillery System Program has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are United Defense, L.P., Minneapolis, MN; and General Dynamics Corporation, Sterling Heights, MI. The nature and objectives of the venture are the U.S. Army currently is developing its next generation field artillery system, which is called The Crusader Advanced Field Artillery System Program (“Crusader Program”). Development is being managed by a joint government-industry “integrated product team” that includes the U.S. Army Tank-automotive Armaments Command-Armaments Research, Development and Engineering Center (TACOM-ARDEC), Office of the Project Manager—Crusader (OPM-Crusader), and UDLP as the prime contractor for the Crusader Program. GD is a major subcontractor for the Program. The Army has approved a non-competitive acquisition strategy for the Crusader Program.

Contracts previously have been awarded to DULP for certain initial development phases of the Crusader Program, and additional contracts may be awarded for future phases and stages of the Program. The objectives of the parties' teaming agreement are to identify their respective and mutual roles, obligations and responsibilities pertaining to accomplishment of the Crusader Program. By this agreement, the parties intend to form an exclusive team for all phases and stages of the Crusader Program, including further system development and production, and to pursue Program-related sales to the U.S. Government and international customers. The parties will jointly prepare and submit proposals containing technical, management and cost information for implementation of the Crusader Program. UDLP will continue to perform as prime contractor under any contracts that have been or may be awarded and GD will perform as subcontractor.

Constance K. Robinson,
Director of Operations, Antitrust Division.

[FR Doc. 00-6959 Filed 3-20-00; 8:45 am]

BILLING CODE 4410-11-M